DEPARTMENT OF TRANSPORTATION

Federal Aviation Administration

Twentieth Meeting: RTCA Special Committee 217—Aeronautical Databases Joint with EUROCAE WG-44—Aeronautical Databases

AGENCY: Federal Aviation Administration (FAA), U.S. Department of Transportation (DOT).

ACTION: Notice of RTCA Special Committee 217—Aeronautical Databases Joint with EUROCAE WG-44—Aeronautical Databases.

SUMMARY: The FAA is issuing this notice to advise the public of a meeting of RTCA Special Committee 217—Aeronautical Databases being held jointly with EUROCAE WG-44—Aeronautical Databases.

DATES: The meeting will be held June 16-20, 2014 from 9:00 a.m. to 5:00 p.m.

ADDRESSES: The meeting will be hosted by FedEx, FedEx Corporate HQ, 942 Shady Grove Rd., Memphis, TN.

FOR FURTHER INFORMATION CONTACT: Sophie Bousquet, SBousquet@rtca.org, 202-330-0663 or The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of RTCA Special Committee 217—Aeronautical Databases held jointly with EUROCAE WG-44—Aeronautical Databases. The agenda will include the following:

Monday, June 16 2014, Opening Plenary

• Co-Chairmen's remarks and introductions

• Approve minutes from 19th meeting

• Review and approve meeting agenda for 20th meeting

• Schedule and working arrangements for this week

• Review of joint WG-1/WG-2 Action Items

• Continuation, “Data Terms Definitions” Review

Monday Thru Thursday, June 16-19—Working Group One (WG1)—DO-200A/ED-76—Stephane Dubet

• Review of WG-1 Action Items Status

• B. Document Editor, Status and Review

• C. Discussion and progress on ED-76/DO-200A update

• D. Process to develop a first mature draft update to ED76/DO200A

Working Group Two (WG2)—DO-272/DO-276/DO 291—John Kasten

• WG-2 Action Item Status Review

• CEN TC 377 Update (if available)

• Sub-Group Status Reports (Content, Connectivity, Consistency, etc)

• Document Editor, Status and Review

• Review of Working Papers, Discussion Papers, Information Papers, others

Friday Morning, June 20 2014, Closing Plenary Session (9:00 a.m. to Noon)

• Presentation of WG1 and WG2 conclusions

• Working arrangements for the remaining work

• Review of action items

• Next meetings, dates and locations

• Any other business and Adjourn

Attendance is open to the interested public but limited to space availability. With the approval of the chairman, members of the public may present oral statements at the meeting.

Persons wishing to present statements or obtain information should contact the person listed in the FOR FURTHER INFORMATION CONTACT section. Members of the public may present a written statement to the committee at any time.

Issued in Washington, DC, on May 23 2014.
Mohannad Dawoud,
Management Analyst, Business Operations Group, ANG-A12, Federal Aviation Administration.

[FR Doc. 2014-12568 Filed 5-29-14; 8:45 am]

BILLING CODE 4910-13-P